DEPARTMENT OF HOMELAND SECURITY

Office of State and Local Government Coordination and Preparedness, Office for Domestic Preparedness; Assistance to Firefighters Grant Program

AGENCY: Office for Domestic Preparedness, Office of State and Local Government Coordination and Preparedness, Department of Homeland Security.

ACTION: Notice of guidance.

SUMMARY: The Department of Homeland Security is publishing this Notice to provide details and guidance regarding the 2005 program year Assistance to Firefighters Grant Program. The program makes grants directly to fire departments and nonaffiliated emergency medical services organizations for the purpose of enhancing first-responders' ability to protect the health and safety of the public as well as that of first-responder personnel facing fire and fire-related hazards. As in prior years, this year's grants will be awarded on a competitive basis to the applicants that best meet the program's criteria. This notice contains the guidance and competitive process descriptions that have been provided to applicants and also provides information on where and why the Department deviated from recommendations of the criteria development panel.

Authority: 15 U.S.C. 2229, 2229a.

FOR FURTHER INFORMATION CONTACT: Brian Cowan, Director, Fire Grants Program Office, Office of State and Local Government Coordination and Preparedness, 810 Seventh Street, NW., Washington, DC 20531.

SUPPLEMENTARY INFORMATION:

Appropriations

For fiscal year 2005, Congress appropriated $650,000,000 to carry out the activities of the Assistance to Firefighters Grant Program (AFG program). The Department of Homeland Security (DHS) is authorized to spend up to $32,500,000 for administration of the AFG program (five percent of the appropriated amount). In addition, DHS has set aside no less than $32,500,000 of the funds (five percent of the appropriation) for the Fire Prevention and Safety Grant Program in order to make grants to, or enter into contracts or cooperative agreements with, national, State, local or community organizations or agencies, including fire departments, for the purpose of carrying out fire prevention and injury prevention programs. This leaves approximately $585,000,000 for competitive grants to fire departments and nonaffiliated EMS organizations, with nonaffiliated emergency medical service (EMS) organizations' awards limited to two percent of the appropriation or $13,000,000.

Background

The purpose of the AFG program is to award grants directly to fire departments and nonaffiliated EMS organizations to enhance their ability to protect the health and safety of the public, as well as that of first-responder personnel, with respect to fire and fire related hazards. DHS will award the grants on a competitive basis to the applicants that first address the AFG program's priorities then provide the best narrative. Applicants whose requests best address the program's priorities will be reviewed by a panel made up of fire service personnel. The panel will review the narrative and assess the application with respect to the clarity of the project to be funded, the organization's financial need, the benefit to be derived from their project, and the extent to which the grant would enhance the applicant's daily operations and/or how the grant would positively impact the applicant's ability to protect life and property.

The AFG Program for fiscal year 2005 generally mirrors previous years' programs with two significant changes. See http://www.firegrantsupport.com/docs/2004AFGNOFA.pdf (2004 Notice of Funds Availability). See also 68 FR 12533 (March 14, 2003) (Notice of Funds Availability, FY2003 guidance). See generally 68 FR 12544 (March 14, 2003) (final rule). The first significant change, as noted above, is the allowance of nonaffiliated EMS organizations (i.e., non-fire based EMS organizations) as eligible applicants for as much as two percent of the appropriated funds. The other change is the segregation of the Fire Prevention and Safety Grant (FP&S) program from the AFG. DHS will have a separate application period devoted solely to Fire Prevention and Safety in the 4th Quarter of Fiscal Year 2005. The AFG Web site (http://www.firegrantsupport.com) will provide updated information on this program. Nonaffiliated EMS organizations will not be eligible for the FP&S program.

There are limits as to the amount of funding that a grantee may be awarded from the Assistance to Firefighters Grant Program in any fiscal year. These limits are based on population served. A grantee that serves jurisdiction with 500,000 people or less may not receive grant funding in excess of $1,000,000 in any fiscal year. A grantee that serves a jurisdiction with more than 500,000 but not more than 1,000,000 people may not receive grants in excess of $1,750,000 in any fiscal year. A grantee that serves a jurisdiction with more than 1,000,000 people may not receive grants in excess of $2,750,000 in any fiscal year. DHS may waive these established limits to any grantee serving a jurisdiction of 1,000,000 or less if DHS determines that extraordinary need for assistance warrants the waiver; however, no grantee, under any circumstance, may receive in excess of $2,750,000 in any fiscal year.

Grantees must share in the costs of the projects funded under this grant program. Fire departments and nonaffiliated EMS organizations that serve populations of less than 20,000 must match the Federal grant funds with an amount of non-Federal funds equal to five (5) percent of the total project cost. Fire departments and nonaffiliated EMS organizations serving areas with a population between 20,000 and 50,000, inclusive, must match the Federal grant funds with an amount of non-Federal funds equal to ten (10) percent of the total project cost. Fire departments and nonaffiliated EMS organizations that serve populations of over 50,000 must match the Federal grant funds with an amount on non-Federal funds equal to twenty (20) percent of the total project costs. All non-Federal funds must be in cash, i.e., in-kind contributions are not eligible. No waivers of this requirement will be granted except for applicants located in Insular Areas as provided for in 48 U.S.C. 1469a.

Under the provisions of 15 U.S.C. 2229a, DHS must ensure that fire departments that have either all-volunteer forces of firefighting personnel or combined forces of volunteer and career firefighting personnel receive a portion of the total grant funding that is not less than the proportion of the United States population that those departments protect. According to a 2004 survey by the National Fire Protection Association (NFPA), volunteer and combination departments protect 55 percent of the population of the United States and career departments protect 45 percent of the population. Therefore, DHS will ensure that no less than 55 percent of the funding available for grants will be awarded to volunteer and combination departments. Assuring this minimum level of funding for volunteer and combination departments has not been a problem in the past as over 90 percent of applicants are volunteer or combination departments. There is no minimum funding level for career departments.

After the panel evaluation's preliminary determination, DHS will make award decisions using rank order. DHS may deviate from rank order and make funding decisions based on the type of department (career, combination, or volunteer), and the size and character of the community the applicant serves (urban, suburban, or rural).

Fire Prevention and Safety Grant Program

In addition to the grants available to fire departments in fiscal year 2005 through the competitive grant program, DHS will set aside no less than $32,500,000 of the funds available under the Assistance to Firefighter Grant Program in order to make grants to, or enter into contracts or cooperative agreements with, national, State, local or community organizations or agencies, including fire departments, for the purpose of carrying out fire prevention and injury prevention programs.

In accordance with the statutory requirement to fund fire prevention activities, support to Fire Prevention and Safety Grant activities will concentrate on organizations that focus on the prevention of injuries to children from fire. In addition to this priority, DHS is also placing an emphasis on funding innovative projects that focus on protecting children under fourteen, seniors over sixty-five, and firefighters. Since the victims of burns experience both short- and long-term physical and psychological effects, DHS is also placing a priority on programs that focus on reducing the immediate and long-range effects of fire and burn injuries, and primarily those affecting children.

A Notice of Funds Availability will be issued to announce the pertinent details of the Fire Prevention and Safety Grant portion of this program.

Application Process

The application period for the AFG grants opened on March 7, 2005, and closed on April 8, 2005. Approximately 20,972 applications were received. These applications were evaluated in the preliminary screening process to determine which applications best addressed the program's established priorities. This preliminary screening was based on the applicants' answers to the activity-specific questions. Each activity within an application was scored and applications that had multiple activities will have had the scores prorated based on the amount of funding requested for each activity.

The best applications as determined in the preliminary step were deemed to be in the “competitive range.” All applications in the competitive range were subject to a second level review by a technical evaluation panel made up of individuals from the fire service including, but not limited to, firefighters, fire marshals, and fire training instructors. The panelists assessed the application's merits with respect to the clarity and detail provided in the narrative about the project, the applicant's financial need, and the project's purported benefit to be derived from the cost.

Using the evaluation criteria included herein, the panelists independently scored each application before them and then discussed the merits and shortcomings of the application in an effort to reconcile any major discrepancies. A consensus on the score was not required. The assigned score reflects the degree to which the applicant: Clearly related their proposed project including the project's budget; demonstrated financial need; detailed a high benefit to cost value of the proposed activities; and demonstrated significant enhancements to the daily operation of the organization and/or how the grant would positively impact the applicant's ability to protect life and property. The highest scoring applications resulting from this second level of review were then considered for award.

DHS will select a sufficient number of awardees from this one application period to obligate all of the available grant funding. Awards will be announced over several months as the decisions are made. Applicants that are not to receive funding will be notified as soon as feasible throughout the process. Awards will not be made in any specified order, i.e., not by State, or by program, or any other characteristic.

Criteria Development Process

Each year, the appropriate office in the Department of Homeland Security conducts a criteria development meeting to develop the program's priorities for the coming year. DHS brings together a panel of fire service professionals representing nine major fire service organizations. The organizations that are represented include the International Association of Fire Chiefs (IAFC), the International Association of Firefighters (IAFF), the National Volunteer Fire Council (NVFC), the National Fire Protection Association (NFPA), the National Association of State Fire Marshals (NASFM), the International Association of Arson Investigators (IAAI), the North American Fire Training Directors (NAFTD), and the Congressional Fire Service Institute (CFSI). The criteria development panel is charged with making recommendations to the grants program office regarding the creation and/or modification of program priorities as well as development of criteria and definitions as necessary.

The 2005 reauthorization of the AFG requires that the program office publish each year in the Federal Register the guidelines that describe the process for applying for grants and the criteria for awarding grants. DHS must also include an explanation of any differences between the published guidelines and the recommendations made by the criteria development panel. The guidelines and the statement on the differences between the guidelines and the criteria development panel recommendations must be published in the Federal Register prior to making any grants under the program. Public Law 108-375, sec. 3602, 118 Stat. 2195 (Oct. 28, 2004). We first present below the specific recommendations not incorporated into the formal rating criteria, followed by the rating criteria the Department will use.

DHS modified or did not adopt the criteria development panel's recommendations as follows:

• In the vehicle acquisition program, DHS disagreed with recommendations made by the criteria development panel for the 2005 program, and kept the panel's input from the 2004 program in place. DHS believes the recommended changes for the 2005 program would have been too restrictive in that they did not offer enough latitude and diversity in the selections of vehicles. DHS believes that the recommended priorities downplayed the diversified needs of urban and suburban departments while favoring the needs of rural departments.

• For the “modifications to facilities” activity, the criteria development panel provided DHS with a directory of initiatives that they would like DHS to consider as eligible under this activity. DHS has elected to stay with a relatively shorter list of eligible initiatives (vehicle exhaust extraction systems, sprinkler systems, smoke/fire alarm systems, and emergency generators). DHS has limited the number of initiatives to those focused on protection and safety for the firefighting and emergency responders, versus providing a more comfortable working environment. DHS has limited the number of eligible initiatives because certain modifications to facilities may have to undergo a historic and/or environmental review and DHS is in the process of establishing procedures to assure that all Federal regulations are followed in this respect.

• DHS placed more value on projects that affect regional benefits than the criteria development panel recommended. If, for example, two projects achieved similar scores, but one represented a regional effort, DHS would be more likely to fund that project, to further encourage regional efforts, as such efforts tend to improve interoperability.

• Wherever the program priorities took call volume into consideration, DHS elected to develop and use its own matrix, rather than the criteria panels, to provide more diversity in the possible scoring levels.

• The criteria panel wanted to require training as a pre-requisite for any grant. DHS determined that this requirement would be impracticable, as there was no guidance from the criteria panel as to what types(s) of training would satisfy each and every eligible use of funds under this broad program.

• The criteria panel recommended that DHS double the number of thermal imaging cameras that departments may apply for. DHS has declined to implement this recommendation because there are no empirical data to indicate that the current allowance is insufficient.

Review Considerations

Fire Department Priorities

Specific rating criteria for each of the eligible programs and activities follow below. These rating criteria will provide an understanding of the grant program's priorities and the expected cost effectiveness of any proposed projects.

(1) Operations and Firefighter Safety Program.

(i) Training Activities. DHS believes that the most benefit is derived from training that is instructor-led, hands-on, and leads to a nationally sanctioned or State certification. Training requests that include Web-based home study or distance learning and the purchase of training materials, equipment, or props are a lower priority. Therefore, applications focused on national or State certification training, including train-the-trainer initiatives, will receive a higher competitive rating. Training that involves instructors, in which students must demonstrate their grasp of knowledge of the training material via testing and is integral to achieving a certification will receive a high competitive rating, but not to the extent of training that would lead to State or national certification. Neither training that is instructor-led but does not lead to a certification nor self-taught courses will be afforded a high priority.

Applications were rated more highly for those proposed programs that benefit the highest percentage of applicable personnel within a fire department or those proposed programs that will be open to other departments in the region. Training that brings the department into statutory (e.g., OSHA) compliance will receive the highest consideration. Training that brings a department into voluntary compliance with national standards will also receive a high competitive rating, but not as high as the training that brings a department into statutory compliance. Training that does not help to achieve statutory compliance or voluntary compliance with a national standard will receive a low competitive rating.

Due to the inherent differences between urban, suburban, and rural firefighting characteristics, DHS has developed different priorities in the training activity for departments that service these different types of communities. However, chemical / biological / radiological / nuclear / explosives (CBRNE) awareness training has a high benefit and will receive the highest consideration regardless of the type of community served.

For fire departments serving rural communities, DHS believes that funding basic, operational-level firefighting training, operational-level rescue training, driver training, or first-responder EMS, EMT-B, and EMT-I training (i.e., training in basic firefighting and rescue duties) has greater benefit than funding officer training, safety officer training, or incident-command training. In rural communities, after basic training, there is a greater cost-benefit to officer training than for other specialized types of training such as mass casualty, HazMat, advance rescue and EMT, or inspector training for rural departments.

Conversely, for departments that are serving urban or suburban communities, DHS believes there is a higher benefit to be gained by funding specialized training, such as mass casualty, HazMat, advance rescue and EMS, or inspector training than the funding of officer training, safety officer training, or operations training, which in turn has a higher benefit than basic-, operational-, or awareness-level activities. Training designated to enhance multi-jurisdictional capabilities will be afforded a slightly higher rating.

(ii) Wellness and Fitness Activities. DHS believes that to have an effective wellness/fitness program, fire departments must offer periodic health screenings, entry physical examinations, and an immunization program. Accordingly, applicants for grants in this category must currently offer or plan to offer with grant funds all three benefits to receive consideration and funding for any other initiatives in this activity. After entry-level physicals, annual physicals, and immunizations, high priority is given to formal fitness and injury prevention programs. Lower priority is given to stress management, injury/illness rehabilitation, and employee assistance.

DHS believes the greatest benefit will be realized by supporting new wellness and fitness programs, and therefore, applications that reflected them were accorded higher competitive ratings than those applicants that already employ a wellness/fitness program. Finally, since participation is critical to achieving any benefits from a wellness or fitness program, applications that include them are given higher competitive ratings to departments whose wellness and fitness programs mandate or provide incentives for participation.

(iii) Equipment Acquisition. As appropriated by Congress, the stated purpose of this grant program is to protect the health and safety of firefighters and the public from fire and fire-related hazards. As such, DHS believes that this grant program will achieve the greatest benefits by providing funds to fire departments purchasing basic firefighting equipment before any other non-firefighting equipment. Equipment that has a direct effect on firefighters' health and safety will receive a higher competitive rating than equipment that has no such effect. Equipment that promotes interoperability with neighboring jurisdictions may receive additional consideration in the cost-benefit assessment if the application makes it into the competitive range.

DHS believes this grant program will achieve the greatest benefits if DHS provides funds to fire departments purchasing basic firefighting, rescue, EMS, and CBRNE preparedness equipment that they have never owned prior to the grant or to replace used or obsolete firefighting equipment. The second priority will be to fund departments that are seeking to expand into new mission areas, and therefore those departments will receive a lower competitive rating than departments seeking reserve equipment. Additionally, among departments that serve similar types of communities, those that have high call volumes will be afforded a higher competitive rating than those that have low call volumes; in other words, those departments that are required to respond more often will receive a higher competitive rating then those that respond infrequently.

The purchase of equipment that brings the department into statutory (e.g., OSHA) compliance will provide the highest benefit and therefore will receive the highest consideration. The purchase of equipment that brings a department into voluntary compliance with national standards will also receive a high competitive rating, but it will not be as high as for the training that brings a department into statutory compliance. Equipment that does not have an effect on statutory compliance or voluntary compliance with a national standard will receive a lower competitive rating.

(iv) Personal Protective Equipment Acquisition. One of the stated purposes of this grant program is to protect the health and safety of firefighters and the public. To achieve this goal and maximize the benefit to the firefighting community, DHS believes that it must fund those applicants needing to provide personal protective equipment (PPE) to a high percentage of their personnel. Accordingly, the highest competitive rating in this category is given to fire departments where a large percentage of their active firefighting staff does not have any PPE. A high competitive rating is given to departments that wish to purchase enough PPE to equip 100 percent of their active firefighting staff, or 100 percent of their on-duty staff, as appropriate. Also, a high competitive rating is given to departments that are purchasing the equipment for the first time as opposed to departments replacing obsolete or substandard equipment (e.g., equipment that does not meet current NFPA and OSHA standards), or purchasing equipment for a new mission. For those departments that are replacing obsolete or substandard equipment, the condition of the equipment to be replaced will be factored into the score with a higher priority given to replacing equipment that is damaged, torn, and/or contaminated.

Due to safety benefits afforded firefighters, for applications that include a request for personal alert safety system (PASS) devices, DHS will only consider funding applications that are requesting equipment that meets current national standards, i.e., integrated and/or automatic or automatic-on PASS. Finally, the number of fire response calls that a department makes in a year will be considered with the higher priority going to departments with higher call volumes, while applications from departments with low call volumes will be afforded lower competitive ratings. The call volume of rural departments will be compared only to other rural departments, suburban departments will be compared only to other suburban departments, and urban departments will be compared only to other urban departments.

(v) Modifications to Fire Stations and Facilities. The stated purpose of this grant program is to protect the health and safety of firefighters and the public. As such, eligible projects under this activity are designed to directly protect the health and safety of firefighters. DHS believes that more benefit would be derived from modifying fire stations than would be realized by modifying fire-training facilities or other fire-related facilities. Facilities that would be open for broad usage and have a high occupancy capacity would receive a higher competitive rating than facilities that have limited use and/or low occupancy capacity. The frequency of use would also have a bearing on the benefits to be derived from grant funds. The frequency and duration of a facility's occupancy have a direct relationship to the benefits to be realized from funding in this activity. As such, facilities that are occupied or otherwise in use 24-hours-per-day/seven-days-a-week would receive a higher competitive rating than facilities used on a part-time or irregular basis.

(2) Firefighting Vehicle Acquisition Program. Due to the inherent differences between urban, suburban, and rural firefighting conventions, DHS has developed different priorities in the vehicle program for departments that service different types of communities. The following chart delineates the priorities in this program area for each type of community.

Vehicle Program Priorities
Priority | Urban communities | Suburban communities | Rural communities
Priority One | Aerial, Quint (Aerial < 76′), Quaint (Aerial 76′ or >), Fire Boat Rescue | Pumper, Aerial Quint (Aerial < 76′), Quint (Aerial 76′ or >), Fire Boat, Brush/Attack | Pumper, Brush/Attack, Tanker/Tender, Quint (Aerial < 76′)
Priority Two | Command, HazMat, Light/Air, Rehab | Command, HazMat, Rescue, Tanker/Tanker | HazMat, Rescue, Light/Air, Aerial, Fire Boat, Quint (Aerial 76′ or >)
Priority Three | Foam Truck, ARFFV, Brush/Attack, Tanker/Tender, Ambulance | Foam Truck, ARFFV, Rehab, Light/Air, Ambulance | Foam Truck, ARFFV, Rehab, Command, Ambulance

Regardless of the type of community served, DHS believes that there is more benefit to be realized by funding fire departments that own few or no vehicles of the type they are seeking than there would be by providing vehicle funding to a department with numerous vehicles of that same type. When assessing the number of vehicles a department has within a particular class, all vehicles with similar functions are included. For example, the following can be classified in the “pumper” category: pumpers, engines, pumper/tankers, (with less than 1,250 gallon capacity), rescue-pumpers, quints (with aerials less than 76 feet in length), and urban interface vehicles such as Type I, II or III. Pumpers with water capacity in excess of 1,250 gallons would be considered a tanker/tender.

A higher competitive rating in the apparatus category is given to fire departments that own few or no firefighting vehicles relative to other departments serving similar types of communities. Also a higher competitive rating is given to departments that have an aged fleet of firefighting vehicles, and to those with old, high-mileage vehicles. A higher competitive rating is also given to departments that respond to a significant number of incidents relative to other departments servicing similar communities.

No competitive advantage has been assigned to the purchase of standard model commercial vehicles versus custom vehicles, or the purchase of used vehicles versus new vehicles in the preliminary evaluation of applications. It has been noted that depending on the type and size of department, the technical evaluation panelists often prefer low-cost vehicles when evaluating the cost-benefit section of the project narratives. Panelists may be provided with guidance for use in their evaluation of the reasonableness of vehicle costs. DHS reserves the right to instill funding limits on requests for vehicles whose costs DHS deems excessive or otherwise not in the best interest of the program. Finally, DHS will allow each fire department to apply for only one vehicle per year.

(3) Administrative Costs. Panelists assess the reasonableness of the administrative costs requested in each application and determine if it is reasonable and in the best interest of the program.

Nonaffiliated EMS Organization Priorities

DHS may make grants for the purpose of enhancing the provision of emergency medical services for nonaffiliated EMS organizations. Funding for these organizations is limited to no more than two percent (2%) of the appropriated amount. DHS believes that it is more cost-effective to enhance or expand an existing emergency medical service organization by providing training and/or equipment than it would be to create a new service. As such, communities that do not currently offer emergency medical services but are turning to this grant program to initiate such a service will receive the lowest competitive rating because DHS does not believe there is sufficient benefit to be derived from such an investment in communities that do not currently support such a service. Specific rating criteria and priorities for each of the grant categories are provided below following the descriptions of this year's eligible programs. The rating criteria, in conjunction with the program description, provides an understanding of what standards are used for evaluation.

(1) EMS Operations and Safety Program.

There are five different activities available for funding under this program area: EMS training, EMS equipment, EMS personal protective equipment, wellness and fitness, and modifications to facilities. Requests for equipment and training to prepare for response to incidents involving CBRNE are available under the applicable equipment and training activities.

(i) Training Activities. DHS believes that the most benefit would be realized by upgrading a service that currently meets a basic life support capacity to a higher level of life support. Therefore, a higher competitive rating is given to nonaffiliated EMS organizations that are planning on going from first responder to EMT-B level. Since training is a pre-requisite to the effective use of EMS equipment, organizations whose request is more focused on training activities will receive a higher competitive rating than organizations whose request is more focused on equipment. The second priority is to elevate emergency responders' capabilities from EMT-B to EMT-I or higher.

(ii) EMS equipment acquisition. Since training is a pre-requisite to the effective use of EMS equipment, organizations whose request is more focused on training activities will receive a higher competitive rating than organizations whose request is more focused on equipment. Organizations who are requesting equipment to the EMT-B level and are requesting the basic support equipment will receive a higher priority. The second priority is requests seeking assistance to purchase equipment to support advance level EMS services. Items that are eligible but a lower priority include tents, shelters, generators, lights, and heating and cooling units.

(iii) EMS personal protective equipment. One of the stated purposes of this grant program is to protect the health and safety of the public and of first responders. To achieve this goal and maximize the benefit to the EMS community, DHS believes that it must fund those applicants needing to provide PPE to a high percentage of their personnel. Accordingly, the highest competitive rating is given in this category to organizations where a large percentage of their active EMS staff does not have adequate PPE. A high competitive rating is given to organizations that wish to purchase enough PPE to equip 100 percent of their active EMS staff, or 100 percent of their on-duty staff, as appropriate. A high competitive rating is given to organizations that are purchasing the PPE for the first time as opposed to organizations replacing obsolete or substandard equipment (e.g., equipment that does not meet current NFPA and OSHA standards), or purchasing equipment for a new mission. For those organizations that are replacing obsolete or substandard equipment, the condition of the equipment to be replaced will be factored into the score, with a higher priority given to replacing equipment that is damaged, torn, and/or contaminated.

(iv) Wellness and Fitness Activities. DHS believes that to have an effective wellness/fitness program, nonaffiliated EMS organizations must offer periodic health screenings, entry physical examinations, and an immunization program. Accordingly, applicants for grants in this category must currently offer or plan to offer with grant funds all three benefits to receive consideration and funding for any other initiatives in this activity. After entry-level physicals, annual physicals, and immunizations, high priority is given to formal fitness and injury prevention programs. Lower priority is given to stress management, injury/illness rehabilitation, and employee assistance.

(v) Modification to EMS stations and facilities. DHS believes that more benefit would be derived from modifying an EMS station than would be realized by modifying an EMS-training facility or other EMS facility. Requests involving facilities that would be open for broad usage and have a high occupancy capacity would receive a higher competitive rating than those involving facilities that have limited use and/or low occupancy capacity. The frequency of use would also have a bearing on the benefits to be derived from grant funds. The frequency and duration of a facility's occupancy have a direct relationship to the benefits to be realized from funding in this activity. As such, facilities that are occupied or otherwise in use 24 hours per day, 7 days per week will receive a higher competitive rating than facilities used on an irregular or part-time basis.

(2) EMS Vehicle Acquisition Program.

Due to the inherent benefits of an ambulance or any transport vehicle to an EMS service provider, DHS deems these types of vehicles to be the highest priority. Due to the costs associated with obtaining and outfitting non-transport rescue vehicles, DHS believes non-transport rescue vehicles should have a lower competitive rating than transport vehicles. Vehicles that have a very narrow function, such as aircraft, boats, and all-terrain vehicles, will receive the lowest competitive rating. Due to the very limited funding for EMS vehicle awards, DHS anticipates that this program will be very competitive. As such, it is unlikely that DHS will fund any vehicles that are not listed as a “Priority One” this year. The following chart delineates the priorities in this program area.

EMS Vehicle Priorities
Priority one | Priority two | Priority three
Ambulance or transport unit to support EMT-B needs and functions | First responder non-transport vehicles Special operations vehicles | Helicopters/planes Command vehicles Rescue boats (over 13 feet in length) Hovercraft Other special access vehicles

While there are many inherent differences between urban, suburban, and rural communities, DHS has not differentiated priorities in this year's EMS vehicle program for different types of communities.

Along with the priorities illustrated above, DHS believes that there is more benefit to be realized by funding applicants that own few or no vehicles of the type they are seeking than there would be by providing vehicle funding to an organization with numerous vehicles of that same type. When assessment of the number of vehicles an organization has within a particular class is done, it will include all vehicles with similar functions. For example, transport vehicles would be considered the same as ambulances. A higher competitive rating is given to applicants that have an aged fleet of emergency vehicles, and to those with old, high-mileage vehicles. A higher competitive rating is given to applicants that respond to a significant number of incidents relative to other organizations servicing similar communities.

(3) Administrative Costs. Panelists will assess the reasonableness of the administrative costs requested in each application and determine if it is reasonable and in the best interest of the program.

Dated: August 12, 2005.
Matt A. Mayer,
Acting Executive Director.

[FR Doc. 05-16309 Filed 8-15-05; 8:45 am]

BILLING CODE 4410-10-P